DEPARTMENT OF THE TREASURY

Internal Revenue Service

Proposed Collection; Comment Request for Form 8847; Correction

AGENCY: Internal Revenue Service (IRS), Treasury.

ACTION: Correction to notice and request for comments.

SUMMARY: This document corrects a notice and request for comments that was published in the Federal Register on Monday, July 26, 2004 (66 FR 44567). This notice relates to the Department of the Treasury's invitation to the general public and other Federal agencies to submit public comments on proposed and/or continuing information collections.

FOR FURTHER INFORMATION CONTACT: Allan Hopkins, (202) 622-6665 (not a toll-free number).

SUPPLEMENTARY INFORMATION:

Background

The notice and request for comments that is the subject of this correction is required by the Paperwork Reduction Act of 1995, Public Law 104-13 (44 U.S.C. 3506(c)(2)(A)).

Need for Correction

As published, the notice and request for comments contains an error that may prove to be misleading and is in need of clarification.

Correction of Publication

Accordingly, the notice and request for comments which was the subject of FR Doc. 04-16968, is corrected as follows:

On page 44567, column 2, under the caption SUPPLEMENTARY INFORMATION:, the paragraph “Current Actions:” is corrected to read as follows: “Old lines 8b through 8i were collapsed into new line 8b. Lines 8j through 8m were renumbered lines 8c through 8f. IRS made this change to reduce taxpayer burden. Most filers do not have any of the credits on old lines b through i, thus the change reduces the number of lines they must consider to one”.

LaNita Van Dyke,
Acting Chief, Publications and Regulations Branch, Legal Processing Division, Associate Chief Counsel, (Procedures and Administration).

[FR Doc. 04-17903 Filed 8-4-04; 8:45 am]

BILLING CODE 4830-01-P